DEPARTMENT OF HOMELAND SECURITY

[Docket No. CISA-2020-0018]

Agency Information Collection Activities: Proposed Collection; Comment Request; Cybersecurity and Infrastructure Security Agency (CISA) Visitor Request Form

AGENCY: Cybersecurity and Infrastructure Security Agency (CISA), Department of Homeland Security (DHS).

ACTION: 30-Day Notice and request for comments; reinstatement without change of information collection request: 1670-0036.

SUMMARY: The Department of Homeland Security (DHS), Cybersecurity and Infrastructure Security Agency (CISA), Office of Compliance and Security (OCS), as part of its continuing effort to reduce paperwork and respondent burden, invites the general public to take this opportunity to comment on a reinstatement, without change, of a previously approved information collection for which approval has expired. CISA will submit the following Information Collection Request to the Office of Management and Budget (OMB) for review and clearance in accordance with the Paperwork Reduction Act of 1995. CISA previously published a notice about this ICR, in the Federal Register on February 17, 2021, for a 60-day public comment period. There were no comments received. The purpose of this notice is to allow additional 30-days for public comments.

DATES: The comment period for the information collection request published on February 17, 2021 at 86 FR 9949. Comments must be submitted on or before July 23, 2021.

ADDRESSES: Written comments and recommendations for the proposed information collection should be sent within 30 days of publication of this notice to www.reginfo.gov/public/do/PRAMain. Find this particular information collection by selecting “Currently under 30-day Review—Open for Public Comments” or by using the search function.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFOTMATION CONTACT: For specific questions related to collection activities, please contact Michael Washington, 202-591-0713, michael.washington@cisa.dhs.gov.

SUPPLEMENTARY INFORMATION: Public Law 107-296 The Homeland Security Act of 2002, Title II, recognizes the Department of Homeland Security role in integrate relevant critical infrastructure and cybersecurity information, analyses, and vulnerability assessments (whether such information, analyses, or assessments are provided or produced by the Department or others) in order to identify priorities for protective and support measures by the Department, other agencies of the Federal Government, State and local government agencies and authorities, the private sector, and other entities while maintaining positive control of sensitive information regarding the national infrastructure. In support of this mission CISA Office of Compliance and Security must maintain a robust visitor screening capability.

The CISA Office of Compliance and Security will collect, using an electronic form, information about each potential visitor to CISA facilities and the nature of each visit. The Office of Compliance and Security will use collected information to make a risk-based decision to allow visitor access to CISA facilities.

This proposed information collection previously published in the Federal Register on February 17, 2021, at 86 FR 9949 with a 60 day public comment period. No relevant comments were received. This information collection expired on February 28, 2021. CISA is requesting a reinstatement, without change, of a previously approved information collection for which approval has expired. The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Cybersecurity and Infrastructure Security Agency (CISA), Department of Homeland Security (DHS).

Title: Cybersecurity and Infrastructure Security Agency (CISA) Visitor Request Form.

OMB Control Number: 1670-0036.

Frequency: Annually.

Affected Public: Private and Public Sector.

Number of Respondents: 20,000.

Estimated Time per Respondent: 10 minutes.

Total Burden Hours: 3,333 hours.

Total Respondent Opportunity Cost: $125,144.

Total Respondent Out-of-Pocket Cost: $0.

Total Government Cost: $250,473.

Samuel Vazquez,
Acting Chief Information Officer, Department of Homeland Security, Cybersecurity and Infrastructure Security Agency.

[FR Doc. 2021-13109 Filed 6-22-21; 8:45 am]

BILLING CODE 9110-9P-P